Proclamation 10937 of May 9, 2025

Mother's Day, 2025

By the President of the United States of America

A Proclamation

America's mothers are the heart of our families, the light in our homes, and the stewards of our Nation's future. From infancy to adulthood, our mothers shape our characters and form our consciences—and play a crucial role in raising the next generation of proud Americans. This Mother's Day, we celebrate every extraordinary mother whose unconditional love, warmth, support, and devotion have enriched our lives, influenced our culture, and upheld the promise of our great Nation.

From our earliest moments on Earth, mothers have nurtured their children with patience, wisdom, caring, and kindness. They teach us to love and help us to navigate the triumphs and challenges of life. Our mothers are also always in our corner, serving as a lasting source of comfort, reassurance, and inspiration. Their love transcends time, generations, and circumstances.

Mothers serve as our protectors, shielding the youth and guarding them from harm. They instill the values that shape our character, and their time, talents, and unwavering dedication continually uplift the lives of those in their care. For that reason, my Administration is committed to empowering American mothers and uplifting American families. From defending the God-given dignity of every human life, born and unborn, to supporting mothers experiencing unexpected or at-risk pregnancies, to making fertility treatments more affordable, we want families across America to grow and thrive. That is why I will continue to defend the child tax credit and work to ensure that families can enjoy the highest standard of living on Earth on a single income.

Under my leadership, we are advancing the American Dream and ensuring that it is accessible to every family and every child. As President, I will continue to protect the rights of parents to raise their child in a free and fair country without the pervasive influence of far-left ideology that isolates children and undermines parents.

On this Mother's Day and every day, we honor the selfless service of every mother in America. We offer our heartfelt gratitude for their endless love and lifelong devotion—and we celebrate their remarkable contributions to our families, communities, culture, and Nation.

The Congress, by joint resolution approved May 8, 1914 (38 Stat. 770), has designated the second Sunday in May each year as “Mother's Day” and requested the President to call for its appropriate observance.

NOW, THEREFORE, I, DONALD J. TRUMP, President of the United States of America, by virtue of the authority vested in me by the Constitution and the laws of the United States, do hereby proclaim May 11, 2025, as Mother's Day. I encourage all Americans to express their love and respect for birth mothers, adoptive mothers, foster mothers, stepmothers, grandmothers, and the many women who step into the role of motherhood—all play an important part in guiding our future as beloved maternal figures, whether with us in person or in spirit, and to reflect on the importance of motherhood to the prosperity of our families, communities, and Nation.

IN WITNESS WHEREOF, I have hereunto set my hand this ninth day of May, in the year of our Lord two thousand twenty-five, and of the Independence of the United States of America the two hundred and forty-ninth.

[FR Doc. 2025-08680

Filed 5-13-25; 8:45 am]

Billing code 3395-F4-P